DEPARTMENT OF ENERGY

Environmental Management Site-Specific Advisory Board, Los Alamos

AGENCY: Department of Energy.

ACTION: Notice of open meeting correction.

On March 15, 2001, the Department of Energy published a notice of open meeting announcing a meeting of the Environmental Management Site-Specific Advisory Board, Los Alamos (66 FR 15108). In that notice, the meeting location was the Holiday Inn, 1005 Paseo de Pueblo Sur, Taos, New Mexico. Today's notice is announcing that the meeting location will be the Sagebrush Inn, 1508 Paseo de Pueblo Sur, Taos, New Mexico.

Issued in Washington, DC on March 26, 2001.
Rachel M. Samuel,
Deputy Advisory Committee Management Officer.

[FR Doc. 01-7743 Filed 3-27-01; 8:45 am]

BILLING CODE 6450-01-P